DEPARTMENT OF LABOR

Employment and Training Administration

[TA-W-82,862]

United States Enrichment Corporation, Paducah Gaseous Diffusion Plant, Including On-Site Leased Workers From Diversified Management Consultants, Inbounds Engineering, Llc, Matrix Engineering, Manpower Inc., Bartlett Nuclear, Inc., C-Plant Federal Credit Union, CJ Enterprises, Pashacl Solutions, Ford Technical Services, Henry A. Petter Supply, KB Consultants, Henry, Meisenheimer, & Grende, SR Martin Group And CDI Corporation, Paducah, Kentucky; Amended Certification Regarding Eligibility To Apply for Worker Adjustment Assistance

In accordance with Section 223 of the Trade Act of 1974, as amended (“Act”), 19 U.S.C. 2273, the Department of Labor issued a Certification of Eligibility to Apply for Worker Adjustment Assistance on July 18, 2013, applicable to workers of United States Enrichment Corporation, Paducah Gaseous Diffusion Plant, including on-site leased workers from Diversified Management Consultants, Inbounds Engineering LLC, Matrix Engineering, Manpower Inc. and Bartlett Nuclear, Inc., Paducah, Kentucky. The Department's notice of determination was published in the Federal Register on August 6, 2013 (78 FR 47780).

At the request of the company official, the Department reviewed the certification for workers of the subject firm. The workers were engaged in the production of low enrichment uranium.

The company reports that workers leased from C-Plant Federal Credit Union, CJ Enterprises, Paschal Solutions, Ford Technical Services, Henry A. Petter Supply, KB Consultants, Henry, Meisenheimer & Grende, SR Martin Group and CDI Corporation were employed on-site at the Bristol, Virginia location of Bristol Compressors International, Inc. The Department has determined that these workers were sufficiently under the control of the subject firm to be considered leased workers.

Based on these findings, the Department is amending this certification to include workers leased from C-Plant Federal Credit Union, CJ Enterprises, Paschal Solutions, Ford Technical Services, Henry A. Petter Supply, KB Consultants, Henry, Meisenheimer & Grende, SR Martin Group and CDI Corporation working on-site at the Paducah, Kentucky location of United States Enrichment Corporation.

The amended notice applicable to TA-W-82,862 is hereby issued as follows:

All workers of United States Enrichment Corporation, Paducah Gaseous Diffusion Plant, including on-site leased workers from Diversified Management Consultants, Inbounds Engineering LLC, Matrix Engineering, Manpower Inc., Bartlett Nuclear, Inc., C-Plant Federal Credit Union, CJ Enterprises, Paschal Solutions, Ford Technical Services, Henry A. Petter Supply, KB Consultants, Henry, Meisenheimer & Grende, SR Martin Group and CDI Corporation, Paducah, Kentucky, who became totally or partially separated from employment on or after June 27, 2012, through July 18, 2015, and all workers in the group threatened with total or partial separation from employment on the date of certification through two years from the date of certification, are eligible to apply for adjustment assistance under Chapter 2 of Title II of the Trade Act of 1974, as amended.

Signed in Washington, DC, this 24th day of October 2013.
Michael W. Jaffe,
Certifying Officer, Office of Trade Adjustment Assistance.

[FR Doc. 2013-26502 Filed 11-5-13; 8:45 am]

BILLING CODE 4510-FN-P